DEPARTMENT OF DEFENSE

Department of the Army

Preparation of Environmental Impact Statement for the Lease of Army Land at Schofield Barracks, Oahu, Hawaii for the Construction and Operation of a Biofuel-Capable Power Generation Plant

AGENCY: Department of the Army, DoD.

ACTION: Notice of intent.

SUMMARY: The Department of the Army notifies interested parties of its intent to prepare a Joint Environmental Impact Statement (EIS) for the proposed lease of Army land at Schofield Barracks to the Hawaiian Electric Company (“Hawaiian Electric”) for the construction and operation on that land of a 50-megawatt (MW) biofuel-capable power generation plant. This EIS is designed to meet the requirements of both the National Environmental Policy Act (NEPA) and the Hawaii Environmental Policy Act (HEPA) as a matter of efficiency and cooperation with the State's decision-making process. The decision makers, the Department of the Army and the Hawaii Department of Land and Natural Resources, will use the analysis in the EIS to determine the potential effects of implementing the proposed action and alternatives. The Army also intends to integrate this NEPA process with the consultation and public participation requirements of Section 106 of the National Historic Preservation Act.

ADDRESSES: Written comments on the scope of the EIS or a request to be added to the EIS distribution list may be submitted as follows: Email to sgspcomments@tetratech.com; Facsimile (fax) to 703-385-6007 (Attention: SGSP EIS); U.S. mail to Melissa DeSantis, Tetra Tech, Inc. (Attention: SGSP EIS, 10306 Eaton Place, Suite 340, Fairfax VA 22030).

FOR FURTHER INFORMATION CONTACT: For more information on the Army's proposed action, please contact Mr. Doug Waters, Army Energy Initiatives Task Force. Mr. Waters can be reached by phone at 703-601-0511, Monday through Friday from 8:00 a.m. to 5:00 p.m. eastern, or by email at douglas.s.waters.civ@mail.mil. For general information about the Army NEPA process, please contact the Public Affairs Office of the Army Environmental Command at 210-466-1590 or 1-855-846-3940 (toll free), or by email at usarmy.jbsa.aex.mbx@mail.mil.

SUPPLEMENTARY INFORMATION: The Army's proposed action, referred to as the Schofield Generating Station Project (SGSP), is a lease of 10.3 acres of land and a related 2.5 acre interconnection easement on Schofield Barracks to Hawaiian Electric, as well Hawaiian Electric's construction, ownership, operation, and maintenance of a 50 MW biofuel-capable power generation plant and 46-kilovolt subtransmission line.

The SGSP would be a source of renewable power that would provide an energy security service to Schofield Barracks, Wheeler Army Airfield, and Field Station Kunia if loss of service occurs from the normal sources of electricity supporting these installations. Any electricity produced from renewable biofuels would also help achieve the Army goals of producing renewable energy on Army-owned real property.

The SGSP would benefit Hawaiian Electric and the residents of Oahu. It would provide a quick-starting facility to help maintain grid stability; provide a facility at a higher elevation and away from coastlines; provide a physically secure facility on a military installation; and makes progress toward the Hawaii Renewable Portfolio Standard.

The SGSP would operate on a mix of biofuel and diesel, as required to meet Hawaiian Electric's Renewable Portfolio Standard and the Army's renewable energy goals, and may help sustain a local demand for biofuels. Since the SGSP would be multi-fuel capable, it would be able to run on a combination of fuels as necessary to ensure operations are economically viable and can continue under adverse operating conditions.

The EIS will assess the potential for direct, indirect, and cumulative effects on the human, natural, and cultural environment and identify mitigation measures for any adverse effects.

The EIS will examine two alternative operating scenarios for the proposed action. Under the first scenario, the SGSP would run approximately six hours per day, and consume up to eight million gallons of fuel per year. Under the second scenario, the SGSP would operate seven days a week and 24 hours per day, and would consume up to 31.5 million gallons of fuel per year.

The EIS will analyze a No Action Alternative, as prescribed by the Council on Environmental Quality (CEQ) regulations, to serve as the baseline against which the proposed action and alternatives are compared. Under this alternative, the SGSP would not be built. The EIS process will also examine whether there are additional reasonable alternatives that could meet the needs of both the Army and Hawaiian Electric.

Key resources of concern, for which potentially significant impacts could occur, include air quality, traffic, and stormwater. The Army is preparing supporting studies for those resources.

The Department of the Army encourages all interested members of the public, as well as federal, state, and local agencies to participate in the scoping process for the preparation of this EIS. Interested members may participate in scoping meetings, submit written comments, or both. Written comments will be accepted within a 45-day period following the publication of the Notice of Intent (NOI) in the Federal Register. Scoping meetings will be held on the Island of Oahu, Hawaii during the first week of February 2014. Notification of the locations and times for the meetings will be published in the Honolulu Star-Advertiser.

Brenda S. Bowen,
Army Federal Register Liaison Officer.

[FR Doc. 2014-00888 Filed 1-16-14; 8:45 am]

BILLING CODE 3710-08-P